DEPARTMENT OF HOMELAND SECURITY

[Docket No. DHS-2008-2027]

Homeland Security Science and Technology Advisory Committee

AGENCY: Science and Technology Directorate, DHS.

ACTION: Committee Management; Notice of Closed Federal Advisory Committee Meeting.

SUMMARY: The Homeland Security Science and Technology Advisory Committee will meet March 20-21, 2008 at Booz Allen Hamilton, 3811 North Fairfax Drive, Arlington, VA 22203. The meeting will be closed to the public.

DATES: The Homeland Security Science and Technology Advisory Committee will meet March 20, 2008 from 9 a.m. to 5 p.m.; and on March 21, 2008, from 8:30 a.m. to 4:30 p.m.

ADDRESSES: The meeting will be held at Booz Allen Hamilton, 3811 North Fairfax Drive, Arlington, VA 22203. Requests to have written material distributed to each member of the committee prior to the meeting should reach the contact person at the address below by March 12, 2008. Send written material to Ms. Deborah Russell, Science and Technology Directorate, Department of Homeland Security, 245 Murray Drive, Bldg. 410, Washington, DC 20528. Comments must be identified by docket number DHS-2008-2027 and may be submitted by one of the following methods:

• Federal eRulemaking Portal: http://www.regulations.gov. Follow the instructions for submitting comments.

• E-mail: HSSTAC@dhs.gov. Include the docket number in the subject line of the message.

• Fax: 202-254-6177.

• Mail: Ms. Deborah Russell, Science and Technology Directorate, Department of Homeland Security, 245 Murray Drive, Bldg. 410, Washington, DC 20528.

Instructions: All submissions received must include the words “Department of Homeland Security” and the docket number for this action. Comments received will be posted without alteration at www.regulations.gov, including any personal information provided.

Docket: For access to the docket to read background documents or comments received by the Homeland Security Science and Technology Advisory Committee, go to http://www.regulations.gov.

FOR FURTHER INFORMATION CONTACT: Ms. Deborah Russell, Science and Technology Directorate, Department of Homeland Security, 245 Murray Drive, Bldg. 410, Washington, DC 20528, 202-254-5739.

SUPPLEMENTARY INFORMATION: Notice of this meeting is given under the Federal Advisory Committee Act, 5 U.S.C. App. (Pub. L. 92-463).

The committee will meet for the purpose of receiving sensitive Homeland Security and classified briefings on Cyber Security, Chemical-Biological Defense and S&T Program Assessments.

Basis for Closure: In accordance with Section 10(d) of the Federal Advisory Committee Act, this HSSTAC meeting will concern classified and sensitive matters within the meaning of 5 U.S.C. 552b(c)(1) and (c)(9)(B), which, if prematurely disclosed, would significantly jeopardize national security and frustrate implementation of proposed agency actions, and that accordingly, the meeting will be closed to the public.

Dated: February 29, 2008.
Jay M. Cohen,
Under Secretary for Science and Technology.

[FR Doc. E8-4607 Filed 3-6-08; 8:45 am]

BILLING CODE 4410-10-P